DEPARTMENT OF HOMELAND SECURITY

Coast Guard

33 CFR Part 165

[Docket No. USCG-2010-0021]

RIN 1625-AA87

Security Zone; U.S. Coast Guard BSU Seattle, Pier 36, Seattle, WA

AGENCY: Coast Guard, DHS.

ACTION: Final rule.

SUMMARY: The Coast Guard is establishing a security zone at U.S. Coast Guard (USCG) Base Support Unit (BSU) Seattle, Pier 36, Elliot Bay, Seattle, WA. This permanent security zone is necessary to protect military and visiting foreign vessels, waterfront facilities, and the maritime public from destruction, loss, or injury from sabotage, subversive acts, or other malicious acts of a similar nature. Entry into or movement within this security zone is prohibited without the permission of the Captain of the Port Puget Sound or a Designated Representative.

DATES: This rule is effective September 30, 2010.

ADDRESSES: Comments and material received from the public, as well as documents mentioned in this preamble as being available in the docket, are part of docket USCG-2010-0021 and are available online by going to http://www.regulations.gov, inserting USCG-2010-0021 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail LTJG Ashley M. Wanzer, Sector Puget Sound Waterways Management, Coast Guard; telephone 206-217-6175, e-mail SectorSeattleWWM@uscg.mil. If you have questions on viewing the docket, call Renee V. Wright, Program Manager, Docket Operations, telephone 202-366-9826.

SUPPLEMENTARY INFORMATION:

Regulatory Information

On May 3, 2010, we published a notice of proposed rulemaking (NPRM) entitled Security Zone; U.S. Coast Guard BSU Seattle, Pier 36, Seattle, WA in the Federal Register (75 FR 23212). We received zero comments on the proposed rule. We did not receive any requests for a public meeting and a public meeting was not held regarding this regulation.

Basis and Purpose

Heightened awareness of potential terrorist acts requires enhanced security of our ports, harbors, and vessels. This rule establishes a security zone to protect waterfront facilities, persons, and vessels from subversive or terrorist acts on the waters surrounding USCG BSU Seattle, Pier 36, Elliot Bay, WA. The Coast Guard Captain of the Port Puget Sound finds sufficient cause to require this security zone to protect military vessels, facilities and the maritime public located at Pier 36, Elliot Bay, WA. This security zone will be continuously activated in order to maintain the security of both moored vessels and permanent facilities regardless of the physical presence of military vessels within the zone.

Discussion of Comments and Changes

We did not receive any comments on the NPRM. Accordingly, we have made no changes from the proposed rule.

Discussion of Rule

This rule establishes a permanent security zone necessary to protect military and visiting foreign vessels, waterfront facilities, and the maritime public from destruction, loss, or injury from sabotage, subversive acts, or other malicious acts of a similar nature. Entry into or movement within this security zone is prohibited without the permission of the Captain of the Port Puget Sound or a Designated Representative.

Pier 36 is an inlet that provides vessel moorage to Coast Guard and visiting military vessels. The permanent security zone established by this rule extends from the north western tip of Pier 36 across the inlet to the south western tip of Pier 36, effectively closing off the access point such that unauthorized vessels are prohibited from entering the pier.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. This rule is not a significant regulatory action because it does not adversely affect the transit of maritime vessels or the recreational boating public to major waterways.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This security zone will not have a significant economic impact on a substantial number of small entities for the following reason: Vessel traffic can pass safely around the security zone.

This security zone will impact the following entities, some of which may be small entities; those vessels or vessel operators who intend to enter BSU Seattle at Pier 36, Seattle, WA.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g.), of the Instruction. This rule involves a security zone located on all waters east of a line from 47°35.450′ N 122°20.585′ W to 47°35.409′ N 122°20.585′ W at USCG BSU Seattle, Pier 36, Elliot Bay, Seattle, WA. Under figure 2-1, paragraph (34)(g), of the Instruction, an environmental analysis checklist and a categorical exclusion determination are not required for this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1

2. Add § 165.1334 to read as follows:

§ 165.1334 Security Zone; U.S. Coast Guard BSU Seattle, Pier 36, Elliot Bay, Seattle, WA.

(a) Location: The following area is a security zone: All waters in Elliot Bay east of a line from 47°35.450′ N 122°20.585′ W to 47°35.409′ N 122°20.585′ W at Pier 36, Elliot Bay, Seattle, WA.

(b) Regulations: Under 33 CFR part 165, subpart D, no vessel may enter, transit, moor, or anchor within this security zone located at Pier 36, Elliot Bay, WA, except for vessels authorized by the Captain of the Port Puget Sound or Designated Representative.

(c) Authorization: To request authorization to operate within this security zone, contact United States Coast Guard Sector Puget Sound Joint Harbor Operations Center at 206-217-6001.

Dated: August 18, 2010.
S.W. Bornemann,
Captain, U.S. Coast Guard, Captain of the Port, Puget Sound.

[FR Doc. 2010-21615 Filed 8-30-10; 8:45 am]

BILLING CODE 9110-04-P